DEPARTMENT OF AGRICULTURE

Submission for OMB Review; Comment Request

October 20, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 25, 2016 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Papaya from Colombia and Ecuador.

OMB Control Number: 0579-0358.

Summary of Collection: Under the Plant Protection Act (7 U.S.C. 7701 et seq.), the Secretary of Agriculture is authorized to carry out operations or measures to detect, eradicate, suppress, control, prevent, or retard the spread of plant pests new to the United States or not known to be widely distributed throughout the United States. The regulations in “Subpart-Fruits and Vegetables” (7 CFR 319.56), prohibits or restrict the importation of fruits and vegetables into the United States from certain parts of the world to prevent the introduction and dissemination of plant pests that are new to or not widely distributed within the United States.

Need and Use of the Information: The Animal and Plant Health Inspection Service (APHIS) regulations allow, under certain conditions, the importation of commercial shipments of fresh papaya from Colombia and Ecuador into the continental United States. These conditions for importation of papaya from Colombia and Ecuador include, but are not limited to, phytosanitary certificates, fruit fly trapping, trapping recordkeeping, grower registration and reinstatement of growers. Falling to collect this information would cripple APHIS' ability to ensure that papaya from Colombia and Ecuador are not carrying fruit flies.

Description of Respondents: Federal Government; Business or other for-profit.

Number of Respondents: 158.

Frequency of Responses: Recordkeeping; Reporting: On occasion.

Total Burden Hours: 371.

Ruth Brown,
Departmental Information Collection Clearance Officer.

[FR Doc. 2016-25740 Filed 10-24-16; 8:45 am]

BILLING CODE 3410-34-P